DEPARTMENT OF ENERGY

[Docket No. EA-283-A]

Application to Export Electric Energy; Public Service Company of Colorado

AGENCY: Office of Electricity Delivery and Energy Reliability, DOE.

ACTION: Notice of application.

SUMMARY: Public Service Company of Colorado (PSCo) has applied to renew its authority to export electric energy from the United States to Canada, pursuant to section 202(e) of the Federal Power Act.

DATES: Comments, protests or requests to intervene must be submitted on or before August 11, 2005.

ADDRESSES: Comments, protests or requests to intervene should be addressed as follows: Permitting, Siting and Analysis Division (OE-20), Office of Electricity Delivery and Energy Reliability, U.S. Department of Energy, 1000 Independence Avenue, SW., Washington, DC 20585-0350 (FAX 202-586-5860).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On August 19, 2003, the Department of Energy (DOE) issued Order No. EA-283 authorizing PSCo to export electric energy from the United States to Canada. That two-year authorization will expire on August 19, 2005. On July12, 2005, DOE received an application from PSCo to renew its export authority for a five-year term. PSCo is a Colorado corporation with its principal place of business in Denver, Colorado. PSCo is an investor-owned subsidiary of Xcel Energy, Inc., and is engaged in the generation, distribution and sale of electric energy. PSCo controls electric power generation and transmission facilities in the States of Arizona, Colorado, Kansas, New Mexico, Oklahoma, Texas, and Wyoming. As a regulated utility, PSCo produces and distributes electric power and conducts wholesale purchases and sales of capacity and energy.

In Docket No. EA-283-A, PSCo proposes to export electric energy that is in excess of the amounts required to meet its native load obligations or that is purchased from generators, power marketers or federal power marketing agencies. PSCo will arrange for the delivery of those exports to Canada over the international transmission facilities owned by Basin Electric Power Cooperative, Boise Cascade, Bonneville Power Administration, Eastern Maine Electric Cooperative, International Transmission Company, Joint Owners of the Highgate Project, Long Sault, Inc., Maine Electric Power Company, Maine Public Service Company, Minnesota Power Inc., Minnkota Power Cooperative, Inc., New York Power Authority, Niagara Mohawk Power Corporation, Northern States Power Company, and Vermont Electric Transmission Company.

The construction of each of the international transmission facilities to be utilized by PSCo has previously been authorized by a Presidential permit issued pursuant to Executive Order 10485, as amended.

Because Order No. EA-283 will expire within the next 30 days, DOE has shortened the comment period to 15 days so that this proceeding can be concluded prior to the expiration of PSCo's existing authorization and prevent any gap in authority with respect to PSCo's current exports.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with DOE on or before the date listed above.

Comments on the PSCo application to export electric energy to Canada should be clearly marked with Docket EA-283-A. Additional copies are to be filed directly with Public Service Company of Colorado, 1099 18th Street, Suite 3000, Denver, CO 80202, Attn: Director, Contract Administration.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's Home Page at http://www.fe.de.gov. Upon reaching the Home Page, select “Electricity Regulation,” and then “Pending Proceedings” from the options menu.

Issued in Washington, DC, on July 21, 2005.
Anthony J. Como,
Director, Permitting and Siting, Office of Electricity Delivery and Energy Reliability.

[FR Doc. 05-14809 Filed 7-26-05; 8:45 am]

BILLING CODE 6450-01-P